DEPARTMENT OF HOUSING AND URBAN DEVELOPMENT

[Docket No. FR-5884-N-01]

Notice of Annual Factors for Determining Public Housing Agency Administrative Fees for the Section 8 Housing Choice Voucher, Mainstream, and Moderate Rehabilitation Programs

AGENCY: Office of the Assistant Secretary for Public and Indian Housing, HUD.

ACTION: Notice.

SUMMARY: This Notice announces that HUD has posted on its Web site the monthly per unit fee rates for use in determining the on-going administrative fees for housing agencies administering the Housing Choice Voucher (HCV), 5-Year Mainstream, and Moderate Rehabilitation programs, including Single Room Occupancy, during calendar year (CY) 2015.

DATES: Effective Date: January 1, 2015.

FOR FURTHER INFORMATION CONTACT: Miguel Fontanez, Director, Housing Voucher Financial Management Division, Office of Public Housing and Voucher Programs, Office of Public and Indian Housing, Department of Housing and Urban Development, Room 4222, 451 Seventh Street, SW., Washington, DC 20410-8000, telephone number 202-708-2934. (This is not a toll-free number). Hearing or speech impaired individuals may call TTY number 1 (800) 877-8339.

SUPPLEMENTARY INFORMATION:

A. Background

This Notice announces that HUD has posted on its Web site the CY 2015 administrative fee rates and provides the Department's methodology used to determine the fee rates by area, which the Office of Housing Voucher Programs (OHVP) will use to compensate public housing agencies (PHAs) for administering the HCV programs. PIH Notice 2015-03, entitled “Implementation of the Federal Fiscal Year (FY) 2015 Funding Provisions for the Housing Choice Voucher Program,” (2015 HCV Funding Implementation Notice) issued on February 27, 2015, describes the advance and settlement processes for this compensation, which are a result of the mandate enacted in the “Consolidated and Further Continuing Appropriations Act, 2015” (Pub. L. 113-235), referred to hereinafter as “the Act',” enacted on December 16, 2014. PIH Notice 2015-03 can be found at: http://portal.hud.gov/hudportal/documents/huddoc?id=15-03pihn.pdf.

B. CY 2015 Methodology

For CY 2015, in accordance with the Act, administrative fees will be earned on the basis of vouchers leased as of the first day of each month. This data will be extracted from the Voucher Management System (VMS) at the close of each reporting cycle and validated prior to use.

Two fee rates are provided for each PHA. The first rate, Column A, applies to the first 7200 voucher unit months leased in CY 2015. The second rate, Column B, applies to all remaining voucher unit months leased in CY 2015. In years prior to 2010, a Column C rate was also established, which applied to all voucher unit months leased in dwelling units owned by the PHA. For CY 2015, as in recent years, there are no Column C administrative fee rates. Fees for leasing HA-owned units will be earned in the same manner and at the same Column A and Column B rates as for all other Voucher leasing.

The fee rates established for CY 2015, using the standard procedures, in some cases resulted in fee rates lower than those established for CY 2014. In those cases, the affected PHAs are being held harmless at the CY 2014 fee rates.

The fee rates for each PHA are generally those rates covering the fee areas in which each PHA has the greatest proportion of its participants, based on Public Housing Information Center (PIC) data submitted by the PHA. In some cases, PHAs have participants in more than one fee area. If such a PHA so chooses, the PHA may request that the Department establish a blended fee rate schedule that will consider proportionately all areas in which participants are located. Once a blended rate schedule is established, it will be used to determine the PHA's fee eligibility for all months in CY 2015. The PHAs were advised via the 2015 HCV Funding Implementation Notice to apply for blended fee rate by March 31, 2015. These applications were already reviewed and determinations were announced.

PHAs that operate over a large geographic area, defined as multiple counties, may request a higher administrative fee rate if eligible under the circumstance described in the CY 2015 implementation notice. The PHAs were advised via the 2015 HCV Funding Implementation Notice to apply for higher fee rates by March 31, 2015. These applications were already reviewed and determinations will be announced during early September 2015.

Accordingly, the Department issues the monthly per voucher unit fee rates to be used to determine PHA administrative fee eligibility for the programs identified in this Notice. These fee rates are posted on HUD's Web site at: http://portal.hud.gov/hudportal/HUD?src=/program_offices/public_indian_housing/programs/hcv, under Program Related Information.

Any questions concerning this Notice should be directed to the PHA's assigned representative at the Financial Management Center or to the Financial Management Division at PIH.Financial.Management.Division@hud.gov.

C. MTW Agencies

Where MTW Agencies have alternative formula for calculating HCV Administrative Fees in Attachment A of their MTW Agreements, HUD will continue to calculate the HCV Administrative Fees in accordance with that MTW Agreement provision.

Dated: November 8, 2015.
Lourdes Castro Ramírez,
Principal Deputy Assistant Secretary for Public and Indian Housing.

[FR Doc. 2015-29812 Filed 11-20-15; 8:45 am]

BILLING CODE 4210-67-P